DEPARTMENT OF HEALTH AND HUMAN SERVICES

National Institutes of Health

Request for Input To Inform a Possible Surgeon General Action on Prescription Drug Abuse in Youth

AGENCY: National Institute on Drug Abuse, National Institutes of Health, Department of Health and Human Services (HHS).

ACTION: Request for information.

SUMMARY: The National Institute on Drug Abuse, a Research Institute of the National Institutes of Health, is seeking on behalf of the Department of Health and Human Services information for an anticipated Surgeon General response to the public health problem of prescription drug abuse among youth.

SUPPLEMENTARY INFORMATION: Scope of Problem: Prescription drug abuse ¹ remains a looming public health threat in this country. Unlike illicit drug use, which has shown a continuing downward trend, prescription drug abuse, particularly of opioid pain medications, has seen a continual rise through the 1990s and has remained stubbornly steady among persons 12 or older during recent years. Most abusers are between the ages of 18 and 25, but younger age groups are also a major concern.

¹ Prescription drug abuse is defined here as the intentional use of a medication without a prescription; in a way other than as prescribed; or for the experience or feeling elicited. It is used interchangeably with “nonmedical” use, a term employed by many of the National Surveys. This definition does not include use for self-harm (suicide attempts).

Approach: ONDCP highlighted prescription drug abuse in its 2010 National Drug Control Strategy. At that time, ONDCP outlined a plan of action to address the prescription drug abuse problem, which included engaging the Office of the Surgeon General to help bring it needed attention. A multi-agency federal work group was formed to follow through on facilitating a Surgeon General response. To date, the work group has received expert input on the state of the science for addressing prescription drug abuse among youth, including from scientific researchers, public health officials, clinicians, and military and law enforcement personnel. Expectations are that a review of the information collected will lead to the issuance of a Surgeon General publication.

Potential Areas of Focus: Extent of the problem and its consequences; differences in prescription drug abuse motivations and how they might inform prevention approaches; availability and adaptability of evidence-based prevention programs; the design of media messages for a wide range of stakeholders; and possible roles for health care professionals, parents, community stakeholders, law enforcement, policymakers, and others addressing this problem.

Purpose of Notice: The purpose of this notice is to provide individuals and organizations the opportunity to identify issues and areas of need for consideration as we gather information for an anticipated Surgeon General response to the public health problem of prescription drug abuse among youth. Comments must be in writing and should not exceed 500 words. All comments will receive careful consideration. However, persons and organizations submitting comments will not receive individual responses.

DATES: Individuals and organizations interested in providing information must submit their comments on/or before June 2, 2011. Comments received after this date will not be considered.

ADDRESSES: Comments may be submitted by any one of the following methods:

• Mail: Anna Staton, M.P.A., Office of Science Policy and Communications, National Institute on Drug Abuse, 6001 Executive Boulevard, Suite 5230, MSC 9591, Bethesda, MD 20892-9591; or

• E-mail: Send to comments4sg@nih.gov.

FOR FURTHER INFORMATION CONTACT: Mary Beth Bigley, Dr.P.H., M.S.N., A.N.P., Acting Director, Office of Science and Communications, Office of the Surgeon General, by telephone at 202-205-5642, or e-mail at Marybeth.Bigley@hhs.gov.

Dated: April 27, 2011.
Mary Affeldt,
Executive Officer, NIDA, National Institutes of Health.

[FR Doc. 2011-10735 Filed 5-2-11; 8:45 am]

BILLING CODE 4140-01-P